DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on August 1, 2023, through August 31, 2023. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of Title 44, United States Code, related to paperwork reduction, does not apply to information required for purposes of carrying out the Program.

Carole Johnson,
Administrator.

List of Petitions Filed

1. Caitlyn Kuykendall, Ennis, Texas, Court of Federal Claims No: 23-1198V

2. Robert Haas, San Pedro, California, Court of Federal Claims No: 23-1199V

3. Kayla Goggans, Greenbelt, Maryland, Court of Federal Claims No: 23-1200V

4. Michele O'Connell, Olivebridge, New York, Court of Federal Claims No: 23-1205V

5. Kirsten Bowland, Nottingham, Maryland, Court of Federal Claims No: 23-1206V

6. Scott Stevens on behalf of Evan Stevens, Minneapolis, Minnesota, Court of Federal Claims No: 23-1207V

7. Skylar Allen, Beverly, New Jersey, Court of Federal Claims No: 23-1209V

8. Ava Chang, Sacramento, California, Court of Federal Claims No: 23-1213V

9. Jocelyn Vazquez, Park Ridge, Illinois, Court of Federal Claims No: 23-1217V

10. Jozsef Pocsi, Orlando, Florida, Court of Federal Claims No: 23-1220V

11. Vaughn Costello, Washington, District of Columbia, Court of Federal Claims No: 23-1228V

12. Sonia Narvaez, Cape Coral, Florida, Court of Federal Claims No: 23-1231V

13. Kevin Brown, Sarasota, Florida, Court of Federal Claims No: 23-1235V

14. Camille Wainer, Fort Worth, Texas, Court of Federal Claims No: 23-1245V

15. Meghan Gamboa, Las Vegas, Nevada, Court of Federal Claims No: 23-1253V

16. Deana Cookson, Watertown, Wisconsin, Court of Federal Claims No: 23-1254V

17. Sascha Hirrle on behalf of L. H., Chicago, Illinois, Court of Federal Claims No: 23-1256V

18. Teresa Mimms, Lafayette, Indiana, Court of Federal Claims No: 23-1258V

19. Zaher Fayyad, Sterling Heights, Michigan, Court of Federal Claims No: 23-1260V

20. Eric Traiger, West Orange, New Jersey, Court of Federal Claims No: 23-1267V

21. Marlene Swords, York, Pennsylvania, Court of Federal Claims No: 23-1270V

22. Karina Frecka, Racine, Wisconsin, Court of Federal Claims No: 23-1271V

23. Carolyn Worlds, Fort Wayne, Indiana, Court of Federal Claims No: 23-1272V

24. Greg Spayd, State College, Pennsylvania, Court of Federal Claims No: 23-1273V

25. Joyce Allred, Springfield, Missouri, Court of Federal Claims No: 23-1274V

26. Jaimee Palm on behalf of H. D., Phoenix, Arizona, Court of Federal Claims No: 23-1280V

27. Andrew Luksch, Depew, New York, Court of Federal Claims No: 23-1281V

28. Harris Paltrowitz, New York City, New York, Court of Federal Claims No: 23-1283V

29. Michael Doby, Livonia, Michigan, Court of Federal Claims No: 23-1285V

30. Marc Sanders, Phoenix, Arizona, Court of Federal Claims No: 23-1287V

31. Richard Lewis Foss, Birmingham, Alabama, Court of Federal Claims No: 23-1288V

32. Gloria Hernandez, Jersey City, New Jersey, Court of Federal Claims No: 23-1290V

33. Raul Barrios, Bronx, New York, Court of Federal Claims No: 23-1291V

34. Laura Weissbach, Tigard, Oregon, Court of Federal Claims No: 23-1293V

35. Diane Newcomb, Natick, Massachusetts, Court of Federal Claims No: 23-1294V

36. Saul Antonio Torres-Barrera, San Pedro, California, Court of Federal Claims No: 23-1295V

37. Elizabeth Young, Charlotte, North Carolina, Court of Federal Claims No: 23-1297V

38. Laquila Brown, Phoenix, Arizona, Court of Federal Claims No: 23-1299V

39. Chaim Greenfeld on behalf of C. G., New York, New York, Court of Federal Claims No: 23-1301V

40. Angela Armstrong, Lebanon, Missouri, Court of Federal Claims No: 23-1304V

41. Karen Bowie, Dallas, Texas, Court of Federal Claims No: 23-1306V

42. Kevin W. Craig, State College, Pennsylvania, Court of Federal Claims No: 23-1311V

43. Glenn E. Clapsaddle, Jefferson, Ohio, Court of Federal Claims No: 23-1312V

44. Maria V. Paltrinieri Baclini, Miami, Florida, Court of Federal Claims No: 23-1313V

45. Michael Stage, Florissant, Missouri, Court of Federal Claims No: 23-1314V

46. Stephanie Bennett, Boston, Massachusetts, Court of Federal Claims No: 23-1315V

47. Pablo Mendoza, Horizon City, Texas, Court of Federal Claims No: 23-1318V

48. Carolyn M. Fenwick, Southwick, Massachusetts, Court of Federal Claims No: 23-1320V

49. Sierra White on behalf of K. W., New York, New York, Court of Federal Claims No: 23-1321V

50. Nancy Ajolo, Honolulu, Hawaii, Court of Federal Claims No: 23-1323V

51. Steve Mobley, Fort Worth, Texas, Court of Federal Claims No: 23-1324V

52. Shelly Wigler on behalf of A. W., Newton, Pennsylvania, Court of Federal Claims No: 23-1325V

53. Jermaine A. Beale, Memphis, Tennessee, Court of Federal Claims No: 23-1326V

54. Silvia Aguayo, Lancaster, California, Court of Federal Claims No: 23-1327V

55. Katie B. Tate, Los Angeles, California, Court of Federal Claims No: 23-1342V

56. Savana Torres, Los Angeles, California, Court of Federal Claims No: 23-1343V

57. Linda Orbanac, Sayre, Pennsylvania, Court of Federal Claims No: 23-1344V

58. Angela Battles, White, Georgia, Court of Federal Claims No: 23-1345V

59. Mark E. Hanson, Minneapolis, Minnesota, Court of Federal Claims No: 23-1346V

60. Beata Brozek, Evanston, Illinois, Court of Federal Claims No: 23-1347V

61. Melissa Thomas on behalf of M. T., Wilmington, North Carolina, Court of Federal Claims No: 23-1351V

62. Danyel Nelson, Warwick, Rhode Island, Court of Federal Claims No: 23-1352V

63. John Schouest, Thibodaux, Louisiana, Court of Federal Claims No: 23-1353V

64. Nicole Sicuro-Leipski on behalf of G. L., Kenosha, Wisconsin, Court of Federal Claims No: 23-1356V

65. Shalonda Goolsby, Dresher, Pennsylvania, Court of Federal Claims No: 23-1357V

66. Alice McCarthy, Renton, Washington, Court of Federal Claims No: 23-1360V

67. Yesid Hernandez, Naples, Florida, Court of Federal Claims No: 23-1364V

68. Leah Keller, Washington, District of Columbia, Court of Federal Claims No: 23-1367V

69. Bethel Stevens, Waimea, Hawaii, Court of Federal Claims No: 23-1369V

70. Dolores Jefferson, Fairburn, Georgia, Court of Federal Claims No: 23-1370V

71. Dawn Ferris-Murray, Mount Laurel, New Jersey, Court of Federal Claims No: 23-1380V

72. Jeremy Allred, Minneapolis, Minnesota, Court of Federal Claims No: 23-1385V

73. Mary Louise Spann, Nashville, Tennessee, Court of Federal Claims No: 23-1395V

74. Vincent Russell, West Chester, Pennsylvania, Court of Federal Claims No: 23-1397V

75. Larry Cunningham, Aurora, Colorado, Court of Federal Claims No: 23-1404V

76. Chinyere Jumbo, Hoover, Alabama, Court of Federal Claims No: 23-1419V

77. Chinyere Jumbo, Hoover, Alabama, Court of Federal Claims No: 23-1421V

78. Leora Chasen, Binghamton, New York, Court of Federal Claims No: 23-1423V

79. Steven Hofmaster, Camas, Washington, Court of Federal Claims No: 23-1430V

80. Aislynn Hayes, Murfreesboro, Tennessee, Court of Federal Claims No: 23-1448V

81. Bobby Rossette, Boston, Massachusetts, Court of Federal Claims No: 23-1477V

82. Maria Bettinger, Houston, Texas, Court of Federal Claims No: 23-1478V

83. Candy Guzman-Guizar, Alhambra, California, Court of Federal Claims No: 23-1484V

84. Brian Andrew Vergara, Phoenix, Arizona, Court of Federal Claims No: 23-1486V

85. Yoshua Rozen, Boston, Massachusetts, Court of Federal Claims No: 23-1487V

86. Kristen Edwards Dempsey, Honolulu, Hawaii, Court of Federal Claims No: 23-1493V

87. Andrea Mae Warren, Honolulu, Hawaii, Court of Federal Claims No: 23-1494V

88. Gina Lewis, Sterling, Kansas, Court of Federal Claims No: 23-1495V

89. Ollie Phillips, Woodridge, Illinois, Court of Federal Claims No: 23-1496V

90. Elizabeth Herman, West Chester, Pennsylvania, Court of Federal Claims No: 23-1497V

91. John Bovard, Boston, Massachusetts, Court of Federal Claims No: 23-1498V

92. Kandi Shafer, Woodridge, Illinois, Court of Federal Claims No: 23-1499V

93. John Yankey, Canby, Oregon, Court of Federal Claims No: 23-1500V

94. Tynh Maejlauk, Chandler, Arizona, Court of Federal Claims No: 23-1501V

95. Linda Shaw, DeLand, Florida, Court of Federal Claims No: 23-1502V

96. Lashay Cameron on behalf of N. C., Jr., Deceased, Aventura, Florida, Court of Federal Claims No: 23-1505V

97. Rebecca Furdell, Cape Coral, Florida, Court of Federal Claims No: 23-1506V

98. Margaret Covino, Worcester, Massachusetts, Court of Federal Claims No: 23-1508V

99. Bartolomeo Marano, Boston, Massachusetts, Court of Federal Claims No: 23-1509V

100. Lynda Speer, Washington, District of Columbia, Court of Federal Claims No: 23-1511V

[FR Doc. 2023-21498 Filed 9-28-23; 8:45 am]

BILLING CODE 4165-15-P